FEDERAL COMMUNICATIONS COMMISSION

47 CFR Part 1

[WT Docket Nos: 02-381, 01-14, and 03-202; FCC 04-166]

Facilitating the Provision of Spectrum-Based Services to Rural Areas and Promoting Opportunities for Rural Telephone Companies To Provide Spectrum-Based Services

AGENCY: Federal Communications Commission.

ACTION: Final rule; announcement of effective date.

SUMMARY: In this document, the Commission announces that the Office of Management and Budget (OMB) has approved, for a period of three years, the information collection requirements associated with Facilitating the Provision of Spectrum-Based Services to Rural Areas and Promoting Opportunities for Rural Telephone Companies To Provide Spectrum-Based Services, FCC 04-166. With this document the Commission is announcing OMB approval and the effective date of the revised requirements.

DATES: The FCC Form 602 was approved by OMB on September 11, 2013 and is effective May 29, 2014.

FOR FURTHER INFORMATION CONTACT: For additional information contact Cathy Williams, Cathy.Williams@fcc.gov, (202) 418-2918.

SUPPLEMENTARY INFORMATION: This document announces that, on September 11, 2013, OMB approved the revised information collection requirements for Facilitating the Provision of Spectrum-Based Services to Rural Areas and Promoting Opportunities for Rural Telephone Companies To Provide Spectrum-Based Services, FCC 04-166, published at, 69 FR 75144, December 15, 2004, the OMB Control Number is 3060-0799. The Commission publishes this document as an announcement of the effective date of the revised information collection requirements, revised FCC Form 602. If you have any comments on the burden estimates listed below, or how the Commission can improve the collections and reduce any burdens caused thereby, please contact Cathy Williams, Federal Communications Commission, Room 1-C823, 445 12th Street SW., Washington, DC 20554. Please include the OMB Control Number, 3060-0799, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on September 11, 2013 for the revised information collection requirements contained in the information collection 3060-0799.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0799.

The foregoing document is required by the Paperwork Reduction Act of 1995, Public Law 104-13, October 1, 1995, and 44 U.S.C. 3507.

The total annual reporting burdens and costs for the respondents are as follows:

OMB Control Number: 3060-0799.

OMB Approval Date: September 11, 2013.

OMB Expiration Date: September 30, 2016.

Title: FCC Ownership Disclosure Information for the Wireless Telecommunications Services.

Form No.: FCC Form 602.

Respondents: Business or Other For-Profit Entities; Not-For-Profit Institutions; State, Local or Tribal Governments.

Number of Respondents and Responses: 5,215 respondents; 5,215 responses.

Estimated Time per Response: 0.5-1.5 hours.

Frequency of Response: On occasion reporting requirement; Third party disclosure requirement.

Obligation to Respond: Required to obtain or retain benefits. The statutory authority is contained in 47 U.S.C. 4(i), 303(g) and 303(r).

Total Annual Burden: 5,215 hours.

Total Annual Cost: $508,200.

Nature and Extent of Confidentiality: Respondents may request materials or information submitted to the Commission be withheld from public inspection under 47 CFR 0.459 of the Commission's rules.

Privacy Impact Assessment: No impact(s).

Needs and Uses: There is no change in the Commission's previous burden estimates. The Commission revised FCC Form 602 by removing question 1b the reporting of Cellular cross Ownership Interests, which was sunset per 47 CFR 1.919(I)(3). The revised form is available via the Commission's Web site and the Universal Licensing System electronic form has been updated. The purpose of the FCC Form 602 is to obtain the identity of the filer and to elicit information required by 47 CFR 1.2112 of the Commission's rules regarding: (1) Persons or entities holding a 10 percent or greater direct or indirect ownership interest or any general partners in a general partnership holding a direct or indirect ownership interest in the applicant (“Disclosable Interest Holders”); and (2) All FCC-regulated entities in which the filer or any of its Disclosable Interest Holders owns a 10 percent or greater interest. The data collected on the FCC Form 602 includes the FCC Registration Number (FRN), which serves as a “common link” for all filings an entity has with the FCC. The Debt Collection Improvement Act of 1996 requires that entities filing with the Commission use a FRN. The FCC Form 602 was designed for, and must be filed electronically by, all licensees that hold licenses in auctionable services. The information collected on the form is used by the FCC to determine whether the filer is legally, technically and financially qualified to be a licensee. Without such information, the Commission could not determine whether to issue licenses to applicants that provide telecommunications services to the public and fulfill its statutory responsibilities in accordance with the Communications Act of 1934, as amended.

Federal Communications Commission.
Marlene H. Dortch,
Secretary, Office of the Secretary, Office of Managing Director.

[FR Doc. 2014-12353 Filed 5-28-14; 8:45 am]

BILLING CODE 6712-01-P